DEPARTMENT OF THE TREASURY

Submission for OMB Review; Comment Request

February 22, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before April 1, 2002, to be assured of consideration.

Bureau of Alcohol, Tobacco and Firearms (BATF)

OMB Number: 1512-0130.

Form Number: ATF F 4473 (5300.9) Part II.

Type of Review: Extension.

Title: Firearms Transaction Record, Part II Non-Over-The-Counter.

Description: The form is used to determine the eligibility of a person to receive a firearm from a Federal firearms licensee. It is also used to establish the identify of the buyer. The form is also used in law enforcement investigations to trace firearms or to confirm criminal activity.

Respondents: Individuals or households, business or other for-profit.

Estimated Number of Recordkeepers: 20,900.

Estimated Burden Hours Per Recordkeeper: 6 minutes.

Frequency of Response: On occasion.

Estimated Total Recordkeeping Burden: 9,057 hours.

OMB Number: 1512-0490.

Form Number: ATF F 4473 (5300.24) Part (LV) and ATF F 4473 (5300.25) Part II (LV).

Recordkeeping Requirement ID Number: ATF REC 7570/2.

Type of Review: Extension.

Title: Firearms Transaction Record Part I—Low Volume—Over-the-Counter; and Firearms Transaction Record Part II—Low Volume—Intra-State Non-Over-the-Counter.

Description: ATF Form 4473 LV Parts I and II are for use only by Federal firearms licensees disposing of 50 or fewer firearms per 12-month period. It is kept, at the licensee's option, in lieu of ATF F 4473 and records of acquisition and disposition.

Respondents: Individuals or households, business or other for-profit.

Estimated Number of Recordkeepers: 5,000.

Estimated Burden Hours Per Recordkeeper: 6 minutes.

Frequency of Response: On occasion.

Estimated Total Recordkeeping Burden: 1,042 hours.

OMB Number: 1512-0534.

Form Number: ATF F 2103 (5220.5), ATF F 2104 (5200.15), ATF F 2105 (5000.7), ATF F 2490 (5620.10), and ATF F 3070 (5210.13).

Type of Review: Extension.

Title: Bond—Export Warehouse Proprietor (F 2103); Export Bond—Customs Bonded Cigar Manufacturing Warehouse (F2104); Extension of Coverage of Bond (F 2105); Bond Under 26 U.S.C. 6423 (F 2490); and Bond—Manufacturer of Tobacco Products.

Description: ATF F 2103 (5220.5), Bond—Export Warehouse Proprietor is used to establish the qualifications of an applicant for an export warehouse proprietorship, or by current proprietor whose status has changed and must change the information already on file. The applicant certifies the intention of produce and/or store a specified amount of tobacco products and takes certain precautions to protect it from unauthorized use. The completed application and supporting data is a permanent record of the business and its qualifications to operate.

ATF F 2104 (5200.15), Export Bond—Customs Bonded Cigar Manufacturing Warehouse is used to establish the qualifications of an applicant who seeks authorization to manufacture cigars within customs bonded warehouse for subsequent exportation, or by a current manufacturer of such cigars whose status has changed and must change the information already on file. The applicant certifies the intention to produce, store and export a specified quantity of cigar products and takes certain precautions to protect them from unauthorized use. The completed application and supporting data is a permanent record of the business and its qualifications to operate.

ATF F 2105 (5000.7), Extension of Bond Coverage is sued to determine compliance by payment on untax paid commodities.

ATF F 2490 (5620.10), Bond Under 26 U.S.C. 6423, and ATF F 3070 (5210.13), Bond-Manufacturer of Tobacco Products are tobacco products and cigarette papers and tubes bond firms used by the manufacturers or proprietor and a surety company as a contract to ensure tax payment.

Respondents: Business or other for-profit.

Estimated Number of Recordkeepers: 15.

Estimated Burden Hours Per Recordkeeper: 1 hour, 40 minutes.

Frequency of Response: On occasion.

Estimated Total Recordkeeping Burden: 25 hours.

OMB Number: 1512-0529.

Form Number: ATF F 1676 (5110.2).

Type of Review: Extension.

Title: Bond Covering Removal To and Use of Wine At Vinegar Plant.

Description: ATF F 1676 (5510.2) is a bond form which serves as a contact between the proprietor of a vinegar plant and a surety. The bond coverage stated on the form is in an amount sufficient to cover the federal excise tax on wine in transit to and stored on the vinegar plant premises until the wine becomes vinegar.

Respondents: Business or other for-profit.

Estimated Number of Respondents: 25.

Estimated Burden Hours Per Respondent: 1 hour.

Estimated Total Reporting Burden: 25 hours.

OMB Number: 1512-0567.

Form Number: ATF F 7500.1.

Type of Review: Extension.

Title: Computer Security Incident Report.

Description: Recent computer penetration events, involving computer systems belonging to both government and commercial entities, enforce the need for the development and deployment of a computer security incident response capability in ATF.

Respondents: Federal Government, individuals or households.

Estimated Number of Respondents: 5,500.

Estimated Burden Hours Per Respondent: 30 minutes.

Frequency of Response: Other (per hit).

Estimated Total Reporting Burden: 2,750 hours.

OMB Number: 1512-0568.

Form Number: None.

Type of Review: Extension.

Title: Search For Artifacts and Memorabilia.

Description: The Commemorative Artifacts and Memorabilia Program (CAMP) hopes to discover and obtain artifacts and memorabilia pertaining to the history, mission, and spirit of ATF to develop exhibits for the new National Laboratory and Headquarters.

Respondents: Individuals or households.

Estimated Number of Respondents: 1,900.

Estimated Burden Hours Per Respondent: 10 minutes.

Estimated Total Reporting Burden: 317 hours.

Clearance Officer: Frank Bowers, Bureau of Alcohol, Tobacco and Firearms, Room 3200, 650 Massachusetts Avenue, NW., Washington, DC 20226, (202) 927-8930.

OMB Reviewer: Alexander T. Hunt, Office of Management and Budget, Room 10202, New Executive Office Building, Washington, DC 20503, (202) 395-7860.

Lois K. Holland,
Departmental Reports Management Officer.

[FR Doc. 02-4875 Filed 2-28-02; 8:45 am]

BILLING CODE 4810-31-P